EXPORT-IMPORT BANK

Sunshine Act Meetings; Correction

AGENCY: Export-Import Bank.

ACTION: Notice; correction.

SUMMARY: The Export-Import Bank published a notice in the Federal Register of September 14, 2021. This document is intended to correct the link to register for the meeting.

FOR FURTHER INFORMATION CONTACT: India Walker, External Enagagement Specialist, at 202-480-0062.

SUPPLEMENTARY INFORMATION: Notice of a public meeting of the Advisory Committee to be held virtually, was announced on September 14, 2021. The following is the correct link to register for the meeting.

Public Participation: The meeting will be open to public participation and time will be allotted for questions or comments submitted online. Members of the public may also file written statements before or after the meeting to external@exim.gov. Interested parties may register here for the meeting:

https://teams.microsoft.com/registration/PAFTuZHHMk2Zb1GDkIVFJw,5M1LfonJMEi2VFUgYRv6oQ,i145n2l9vkmDj5btNlkuGw,OBDNWGHni0u0T3ceNNIRZQ,dkSDmLQxcUOIzb6FFvE-yg,yZddqPI9TkSqQ2-w2BOsbg?mode=read&tenantId=b953013c-c791-4d32-996f-518390854527.

Joyce B. Stone,
Assistant Corporate Secretary.

[FR Doc. 2021-20195 Filed 9-15-21; 11:15 am]

BILLING CODE 6690-01-P